DEPARTMENT OF TRANSPORTATION

Federal Railroad Administration

Notice of Petition for Approval

In accordance with Title 49 of the Code of Federal Regulations (CFR) § 236.913(e)(1), notice is hereby given that the Federal Railroad Administration (FRA) has received a petition for approval of a revised version of an approved Product Safety Plan (PSP) submitted pursuant to 49 CFR Part 236, subpart H. The individual petition is described below, including the party seeking approval, the requisite docket number and a brief summary of the petition.

BNSF Railway Company

Docket Number FRA-2006-23687

The BNSF Railway Company (BNSF) submitted a petition for approval of a revised version (version 3.0) of their already approved PSP for the Electronic Train Management System (ETMS). BNSF asserts that the revised PSP demonstrates that ETMS has been designed to incrementally scale out functionality and applicability to different railroad territory type configurations. Consequently, ETMS and the PSP has evolved over time as new functionality was added to the system and tested on different operational scenarios that exist on the BNSF rail network. BNSF also believes the revised PSP supports the requirements as described in 49 CFR Part 236, subpart H regarding the “Standards for Development and Use of Processor-Based Signal and Train Control Systems” to receive approval for implementation of the ETMS II, ETMS IV and ETMS VI configuration types. The revised PSP provides descriptions of: The ETMS itself, ETMS safety process and analyses, validation and verification processes used during development of ETMS, and operational and support requirements and procedures.

Interested parties are invited to participate in this safety review by providing written information or comments pertinent to FRA's consideration of the above petition for approval of a revised PSP. All communications concerning this approval should identify the appropriate docket number (Docket Number FRA-2006-23687) and may be submitted by any of the following methods:

• Web site: http://regulations.gov. Follow the instructions for submitting comments on the DOT electronic docket site.

• Mail: Docket Management Facility, U.S. Department of Transportation, 1200 New Jersey Ave., SE., Room W12140, Washington, DC 20590.

• Hand Delivery: Room W12-140 U.S. Department of Transportation Building, 1200 New Jersey Ave., SE., Washington, DC, between 9 a.m. and 5 p.m., Monday through Friday, except Federal Holidays.

Communications received within 45 days of the date of this notice will be considered by FRA before final action is taken. Comments received after that date will be considered as far as practicable. All written communications concerning these proceedings are available for examination during regular business hours (9 a.m.-5 p.m.) at the above facility. All documents in the public docket are also available for inspection and copying on the internet at the docket facility's Web site at http://www.regulations.gov.

Interested parties are invited to review the informational filing and associated documents at the DOT Docket Management facility during regular business hours (9 a.m.-5 p.m.) at 1200 New Jersey Avenue, SE., Room W12-140, Washington, DC 20590. All documents in the public docket are available for inspection and copying on the internet at http://www.regulations.gov.

Anyone is able to search the electronic form of any written communications received into any of our dockets by name of the individual submitting the document (or signing the document, if submitted on behalf of an association, business, labor union, etc.). You may review the DOT's complete Privacy Act Statement in the Federal Register published on April 11, 2000 (Volume 65, Number 70; Pages 19477-78) or at http://www.dot.gov/privacy.html.

Issued in Washington, DC on March 10, 2010.
Grady C. Cothen, Jr.,
Deputy Associate Administrator for Safety Standards and Program Development.

[FR Doc. 2010-5859 Filed 3-17-10; 8:45 am]

BILLING CODE 4910-06-P